ENVIRONMENTAL PROTECTION AGENCY

40 CFR Part 52

[EPA-R06-OAR-2006-0885; FRL-9906-02-Region 6]

Approval and Promulgation of Air Quality Implementation Plans; Texas; Approval of Texas Motor Vehicle Rule Revisions

AGENCY: Environmental Protection Agency (EPA).

ACTION: Proposed rule.

SUMMARY: The Environmental Protection Agency (EPA) is proposing approval of revisions submitted by the State of Texas that affect the Texas State Implementation Plan (SIP) concerning Texas' motor vehicle air pollution rules. Based upon the State's submitted Texas clean fuel fleet (TCFF) program equivalency demonstration that the new Tier 2 and 2007 heavy-duty diesel vehicles and engines meet or exceed the LEV requirement, we are proposing to approve the removal of the TCFF program's repealed low emission vehicle (LEV) rules and mobile emission reduction credit (MERC) rules from the Texas SIP. We also are proposing to approve the removal of the Transportation Control Measures (TCM) substitution repealed rules from the Texas SIP. We are proposing to approve as part of the SIP, a new Texas Clean Fleet (TCF) program, with submitted revisions, to incentivize replacement of diesel vehicles and engines with alternatively fueled vehicles and engines, including hybrids.

DATES: Written comments must be received on or before March 3, 2014.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the Addresses section of the direct final rule located in the rules section of this Federal Register.

FOR FURTHER INFORMATION CONTACT: Mr. John Walser, Air Planning Section (6PD-L), Environmental Protection Agency, Region 6, 1445 Ross Avenue, Suite 700, Dallas, Texas 75202-2733, telephone (214) 665-7128; email address walser.john@epa.gov.

SUPPLEMENTARY INFORMATION: In the final rules section of this Federal Register, EPA is approving the State's SIP submittal without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the rules section of this Federal Register.

Dated: January 15, 2014.
Ron Curry,
Regional Administrator, Region 6.

[FR Doc. 2014-01902 Filed 1-30-14; 8:45 am]

BILLING CODE 6560-50-P